DEPARTMENT OF HOUSING AND URBAN DEVELOPMENT

[Docket No. FR-5168-D-09]

Revocation and Redelegation of Authority Under Section 3 of the Housing and Urban Development Act of 1968

AGENCY: Office of the Assistant Secretary for Fair Housing and Equal Opportunity, HUD.

ACTION: Notice of revocation and redelegation of authority.

SUMMARY: Pursuant to 24 CFR 135.7, the Assistant Secretary for Fair Housing and Equal Opportunity (FHEO) has been delegated authority under Section 3 of the Housing and Urban Development Act of 1968 and HUD's implementing regulations at 24 CFR part 135. In this document, the Assistant Secretary for FHEO retains those authorities and, with noted exceptions, redelegates them to the General Deputy Assistant Secretary for FHEO, who retains and further redelegates certain authorities to the Deputy Assistant Secretary for Enforcement and Programs. In addition, the Deputy Assistant Secretary for Enforcement and Programs retains these authorities and further redelegates limited authorities to each of the FHEO Region Directors. Pursuant to this notice, the Assistant Secretary for FHEO also revokes the redelegation of authority published in the Federal Register on August 3, 2003 (68 FR 45848), and any other prior redelegations of authority pertaining to Section 3 of the Housing and Urban Development Act of 1968.

DATES: Effective Date: November 21, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: Pursuant to 24 CFR 135.7, the Assistant Secretary for FHEO has been delegated all authority under Section 3 of the Housing and Urban Development Act of 1968 (12 U.S.C. 1701u), and its implementing regulations, 24 CFR part 135. The Assistant Secretary is further authorized to redelegate functions and responsibilities to other employees of HUD; provided however, that the authority to issue rules and regulations pursuant to Section 3 is not redelegated. In this redelegation of authority, except for noted exceptions, the Assistant Secretary for FHEO redelegates this authority to the General Deputy Assistant Secretary for FHEO, who retains and further redelegates certain authorities to the Deputy Assistant Secretary for Enforcement and Programs. In addition, the Deputy Assistant Secretary for Enforcement and Programs retains and further redelegates limited authorities to each of the FHEO Region Directors.

Recently, the Assistant Secretary for FHEO has shifted the complaint processing from HUD Headquarters to each of HUD's regional offices. This redelegation reflects those changes.

Authority is redelegated as follows:

Section A. Authority Redelegated to General Deputy Assistant Secretary for FHEO

The Assistant Secretary for FHEO retains and, with certain noted exceptions, redelegates to the General Deputy Assistant Secretary for FHEO all authority under Section 3 of the Housing and Urban Development Act of 1968 and its implementing regulations. The authority redelegated does not include the authority to impose resolutions or sanctions in Section 3 complaint investigations pursuant to 24 CFR part 135.76(f)(2); or to issue rules, regulations or waivers pursuant to Section 3. This authority may be further redelegated to other FHEO employees.

Section B. Authority Further Redelegated to the Deputy Assistant Secretary for Enforcement and Programs

The General Deputy Assistant Secretary for FHEO retains and, with noted exceptions, redelegates to the Deputy Assistant Secretary for Enforcement and Programs the authority for Section 3 complaint processing, pursuant to 24 CFR part 135.76, and the authority for Section 3 complaint reviews, pursuant to 24 CFR part 135.74. The authority redelegated does not include the authority to impose resolutions or sanctions pursuant to 24 CFR 135.76(f)(2). This authority may be further redelegated to other FHEO employees.

Section C. Authority Further Redelegated to FHEO Region Directors

Subject to noted exceptions, the Deputy Assistant Secretary for Enforcement and Programs retains and redelegates to each of the FHEO Region Directors the authority for Section 3 complaint processing as provided in 24 CFR 135.76. The authority redelegated does not include the authority to review appeals to letters of determinations or appeals to resolutions; it also does not include the authority to impose resolutions or sanctions pursuant to 24 CFR 135.76(f)(2). This authority may not be further redelegated.

Section E. Prior Redelegated Authority Revoked

All previous redelegations of authority made within the Office of the Assistant Secretary for FHEO under Section 3 of the Housing and Urban Development Act of 1968, including the redelegation published in the Federal Register at 68 FR 45848 on August 3, 2003 are revoked.

Authority: Section 7(d) of the Department of Housing and Urban Development Act, 42 U.S.C. 3535(d).

Dated: November 21, 2007.
Kim Kendrick,
Assistant Secretary for Fair Housing and Equal Opportunity.
Cheryl L. Ziegler,
General Deputy Assistant Secretary for Fair Housing and Equal Opportunity
Bryan Greene,
Deputy Assistant Secretary for Enforcement and Programs.

[FR Doc. E7-24341 Filed 12-14-07; 8:45 am]

BILLING CODE 4210-67-P